DEPARTMENT OF VETERANS AFFAIRS

38 CFR Part 36

RIN 2900-AN71

Loan Guaranty: Elimination of Redundant Regulations; Technical Correction

AGENCY: Department of Veterans Affairs.

ACTION: Final rule; technical correction.

SUMMARY: On June 15, 2010, the Department of Veterans Affairs (VA) published a document in the Federal Register (75 FR 33704), amending its loan guaranty regulations to eliminate redundancies in the regulations that were a result of a new electronic reporting system. At that time, we failed to update the cross-reference citations within the redesignated sections. On October 22, 2010 (75 FR 65238), Sections 36.4301 through 36.4323(e) were amended to replace the incorrect cross-reference citations with the accurate, updated cross-references. This document corrects the remaining redesignated sections (§ 36.4324 through § 36.4393) to contain the correct and updated cross-reference citations. These nonsubstantive changes are made for clarity and accuracy.

DATES: Effective June 16, 2015.

FOR FURTHER INFORMATION CONTACT: Joseph E. Simpson, Senior Attorney, The Office of General Counsel, U.S. Department of Veterans Affairs, 810 Vermont Avenue NW., (021D), Washington, DC 20420, (202) 368-6406.

SUPPLEMENTARY INFORMATION: On June 15, 2010 (75 FR 33704), VA amended 38 CFR part 36. The purpose of the amendments was to eliminate redundant regulations found at 38 CFR 36.4300 through 36.4393 (the “36.4300 series”). VA redesignated the regulations that had previously been published at 38 CFR 36.4800 through § 36.4893 (the “36.4800 series”) to replace the 36.4300 series in its entirety. On October 22, 2010 (75 FR 65238), VA amended the redesignated sections of 36.4301 through 36.4323(3) to replace the incorrect internal cross references to the 36.4800 series contained within those sections, with the updated, accurate internal cross references to the 36.4300 series. That final rule technical citation failed to make the remaining necessary corrections.

With this action, VA is amending the remaining 36.4300 series regulations to update the internal cross-references to the 36.4800 series regulations. This action is necessary because the 36.4800 series has been removed from 38 CFR part 36, making the current cross reference citations to the series obsolete. VA is amending each citation by simply replacing the numbers “48” with “43” (e.g., changing the reference to § 36.4860 to read § 36.4360).

For the convenience of the reader, we have included a redesignation table that shows each affected section, the cross reference that is removed, and the new cross reference that is added in its place.

Administrative Procedure Act

Because this final rule is only a technical correction to the cross-references in certain regulations, prior notice-and-comment is unnecessary. Accordingly, this final rule is exempt from this requirement under 5 U.S.C. 553(b)(B). For the same reason, there is good cause under 5 U.S.C. 553(d)(3) to publish this rule with an immediate effective date.

List of Subjects in 38 CFR Part 36

Condominiums, Housing, Veterans with disabilities, Loan programs—housing and community development, Loan programs—veterans, Grant program—veterans, Manufactured homes, Mortgage insurance, Reporting and recordkeeping requirements, Veterans.

Approved: May 29, 2015.
William F. Russo
Acting Director, Office of Regulation Policy and Management, Office of the General Counsel, Department of Veterans Affairs.

For the reasons set forth in the preamble, 38 CFR 36.4324 through 36.4393 are corrected by making the following correction amendments:

PART 36—LOAN GUARANTY

1. The authority citation for part 36 continues to read as follows:

Authority: 38 U.S.C. 501 and as otherwise noted.

§§ 36.4324, 36.4325, 36.4326, 36.4327, 36.4328, 36.4331, 36.4333, 36.4335, 36.4338, 36.4339, 36.4340, 36.4345, 36.4347, 36.4348, 36.4350, 36.4352, 36.4354, 36.4355, 36.4359, 36.4360, 36.4361, 36.4362, 36.4363, 36.4364, 36.4365, 36.4367, 36.4375, 36.4378, 36.4379, 36.4390, 36.4392, and 36.4393 [Amended]

2. In the table below, for each section indicated in the left column, remove the cross-reference indicated in the middle column from wherever it appears in the section, and add the cross-reference indicated in the right column:

Redesignation Table
Amended sections | Remove cross-reference citations | Add, in its place, new cross-reference citations
§ 36.4324(a) | § 36.4815(h)(2) | 36.4315(h)(2).
§ 36.4324(a) | § 36.4815(h)(2) | 36.4315(h)(2).
§ 36.4324(a)(2) | § 36.4814 | § 36.4314.
§ 36.4324(a)(3)(ii) | § 36.4822(a) | § 36.4322(a).
§ 36.4324(d)(5) | § 36.4833 | § 36.4333.
§ 36.4325 | § 36.4820(a) | § 36.4320(a).
§ 36.4326(e) | § 36.4845 | § 36.4345.
§ 36.4326(e)(1) | § 36.4845 | § 36.4345.
§ 36.4326(e)(2) | § 36.4845 | § 36.4345.
§ 36.4326(i) | § 36.4809(c)(1)(vii) | § 36.4309(c)(1)(vii).
§ 36.4326(i) | § 36.4803(l)(1)(i) | § 36.4303(l)(1)(i).
§ 36.4326(i) | § 36.4803(l)(1)(i) | § 36.4303(l)(1)(i).
§ 36.4326(i) | § 36.4813(d)(8) | § 36.4313(d)(8).
§ 36.4327(a)(1) | § 36.4822 | § 36.4322.
§ 36.4327(d)(2) | § 36.4817 | § 36.4317.
§ 36.4327(d)(4) | § 36.4815 | § 36.4315.
§ 36.4328(b) | § 36.4854(b) | § 36.4354(b).
§ 36.4328(b)(2) | § 36.4830 | § 36.4330.
§ 36.4328(b)(3) | § 36.4829 | § 36.4329.
§ 36.4328(b)(4) | § 36.4817 | § 36.4317.
§ 36.4328(b)(5) | § 36.4827 | § 36.4327.
§ 36.4328(b)(6) | § 36.4831 | § 36.4331.
§ 36.4328(b)(8) | § 36.4854(b) | § 36.4354(b).
§ 36.4328(c) | § 36.4820(a) | § 36.4320(a).
§ 36.4331 | §§ 36.4800 through 36.4880 | §§ 36.4300 through 36.4380.
§ 36.4333(a)(2) | § 36.4819(a) | § 36.4319(a).
§ 36.4335 | §§ 36.4800 to 36.4880 | §§ 36.4800 to 36.4880.
§ 36.4335 | § 36.4845 | § 36.4345.
§ 36.4335 | §§ 36.4800 to 36.4880 | §§ 36.4800 to 36.4880.
§ 36.4338(a) | § 36.4845 | § 36.4345.
§ 36.4338(a)(1) | § 36.4808(a) | § 36.4308(a).
§ 36.4338(a)(2) | § 36.4803(l) | § 36.4303(l).
§ 36.4338(a)(3) | § 36.4824(d)(3) | § 36.4324(d)(3).
§ 36.4338(a)(4) | § 36.4823(a) | § 36.4323(a).
§ 36.4338(a)(5) | § 36.4823(b) | § 36.4323(b).
§ 36.4338(a)(6) | § 36.4814(f)(2) | § 36.4314(f)(2).
§ 36.4338(a)(7) | § 36.4824(a)(3) | § 36.4324(a)(3).
§ 36.4338(a)(8) | § 36.4824(e) | § 36.4324(e).
§ 36.4339(c) | § 36.4823 | § 36.4323.
§ 36.4340(h) | § 36.4839(a)(3) | § 36.4339(a)(3).
§ 36.4340(k)(3) | § 36.4840(k)(2) | § 36.4340(k)(2).
§ 36.4345(c)(2) | § 36.4823(e) | § 36.4323(e).
§ 36.4345(c)(2) | § 36.4838 | § 36.4338.
§ 36.4345(c)(2) | § 36.4846 | § 36.4346.
§ 36.4347(a)(5) | § 36.4847(b) | § 36.4347(b).
§ 36.4347(d) | § 36.4847(b) | § 36.4347(b).
§ 36.4347(f) | § 36.4847(d) | § 36.4347(d).
§ 36.4348(a)(4) | § 36.4848(b) | § 36.4348(b).
§ 36.4348(c) | § 36.4848(b) | § 36.4348(b).
§ 36.4348(d) | § 36.4848(c) | § 36.4348(c).
§ 36.4350(g)(1)(iv)(A)(1) | § 36.4815 | § 36.4315.
§ 36.4350(i)(2) | § 36.4817(c)(10) | § 36.4317(c)(10).
§ 36.4352(d)(1) | § 36.4852(b)(5) | § 36.4352(b)(5).
§ 36.4354(b)(5)(iii) | § 36.4862(c) | § 36.4362(c).
§ 36.4355 | § 36.4854(a) | § 36.4354(a).
§ 36.4359(c) | § 36.4855 | § 36.4355.
§ 36.4360(a) | § 36.4857 | § 36.4357.
§ 36.4360(a) | § 36.4859 | § 36.4359.
§ 36.4360(a) | § 36.4869 | § 36.4369.
§ 36.4360(b)(2) | § 36.4801 | § 36.4301.
§ 36.4361(b) | § 36.4854 | § 36.4354.
§ 36.4361(c)(4) | § 36.4864(a)(3) | § 36.4364(a)(3).
§ 36.461(c)(4) | § 36.4865(b)(6) | § 36.4365(b)(6).
§ 36.461(d)(2) | § 36.4864(a)(6) | § 36.4364(a)(6).
§ 36.4362(b)(4)(iii) | § 36.4856 | § 36.4356.
§ 36.4362(c)(5) | § 36.4854(b)(5)(ii) | § 36.4354(b)(5)(ii).
§ 36.4362(c)(5) | § 36.4854(b)(5)(iv) | § 36.4354(b)(5)(iv).
§ 36.4362(c)(6)(ii) | § 36.4809(e) | § 36.4309(e).
§ 36.4362(c)(6)(ii) | § 36.4854(b)(5)(iv) | § 36.4354(b)(5)(iv).
§ 36.4363(e) | § 36.4829 | § 36.4329.
§ 36.4364(a)(1) | § 36.4861(d)(2) | § 36.4361(d)(2).
§ 36.4364(a)(3) | § 36.4865(b)(6) | § 36.4365(b)(6).
§ 36.4364(a)(7) | § 36.4861(b) | § 36.4361(b).
§ 36.4364(a)(7) | § 36.4862(c)(1) and (2) | § 36.4362(c)(1) and (2).
§ 36.4364(c) | § 36.4800 series | § 36.4300 series.
§ 36.4365(b)(5) | § 36.4865(b)(7) | § 36.4365(b)(7).
§ 36.4367 | §§ 36.4860 through 36.4865 | §§ 36.4360 through 36.4365.
§ 36.4375(b) | § 36.4820 | § 36.4320.
§ 36.4378 | § 36.4820 | § 36.4320.
§ 36.4378 | § 36.4877 | § 36.4377.
§ 36.4378 | § 36.4877(a) | § 36.4377(a).
§ 36.4379(a) | § 36.4817 | § 36.4317.
§ 36.4379(a) | § 36.4850 | § 36.4350.
§ 36.4379(a) | § 36.4875(b) | § 36.4375(b).
§ 36.4379(b) | § 36.4814 | § 36.4314.
§ 36.4390 | §§ 36.4890 through 36.4893 | §§ 36.4390 through 36.4393.
§ 36.4392 | §§ 36.4890 through 36.4893 | §§ 36.4390 through 36.4393.
§ 36.4392 | § 36.4891 | § 36.4391.
§ 36.4393(a) | § 36.4892 | § 36.4392.
§ 36.4393(c) | § 36.4892 | § 36.4392.
§ 36.4393(d) | § 36.4892 | § 36.4392.
§ 36.4393(e) | § 36.4892 | § 36.4392.

[FR Doc. 2015-13456 Filed 6-15-15; 8:45 am]

BILLING CODE 8320-01-P